DEPARTMENT OF TRANSPORTATION

Federal Aviation Administration

Aviation Rulemaking Advisory Committee—Transport Airplane and Engine Subcommittee; Meeting

AGENCY: Federal Aviation Administration (FAA), Department of Transportation (DOT).

ACTION: Notice of public meeting.

SUMMARY: This notice announces a public meeting of the FAA's Aviation Rulemaking Advisory Committee (ARAC) Transport Airplane and Engine (TAE) Subcommittee to discuss TAE issues.

DATES: The meeting will be held on Wednesday, July 25, 2018, starting at 1:00 p.m. Eastern Daylight Time.

ADDRESSES: This is a public teleconference.

FOR FURTHER INFORMATION CONTACT: Lakisha Pearson, Office of Rulemaking, ARM-209, FAA, 800 Independence Avenue SW, Washington, DC 20591, Telephone (202) 267-4191, Fax (202) 267-5075, or email at 9-awa-arac@faa.gov.

SUPPLEMENTARY INFORMATION: Pursuant to Section 10(a)(2) of the Federal Advisory Committee Act (Pub. L. 92-463; 5 U.S.C. app. III), notice is given of an ARAC Subcommittee meeting to be held on July 25, 2018.

The agenda for the teleconference is as follows:

• Transport Airplane Metallic and Composite Structures workgroup final report.

• Avionics Systems Harmonization workgroup work plan.

• Flight Test Harmonization workgroup One Engine Inoperative Controllability on Slippery Surfaces final report.

• Transport Airplane Crashworthiness and Ditching workgroup Final Report Executive Summary.

Participation is open to the public, but will be limited to the availability of teleconference lines. Participation will be by teleconference only. Please confirm your participation with the person listed in the FOR FURTHER INFORMATION CONTACT section no later than July 16, 2018. Please provide the following information: Full legal name and name of your industry association, or applicable affiliation.

To participate, please contact the person listed in FOR FURTHER INFORMATION CONTACT by email or phone for the teleconference call-in number and passcode. Participants are responsible for any telephone, data usage or other similar expenses related to this meeting.

The public must make arrangements by July 16, 2018, to present oral or written statements at the meeting. Written statements may be presented to the Subcommittee by providing a copy to the person listed in the FOR FURTHER INFORMATION CONTACT section. Copies of the documents to be presented to the Subcommittee may be made available by contacting the person listed in the FOR FURTHER INFORMATION CONTACT section.

If you need assistance or require a reasonable accommodation for the meeting or meeting documents, please contact the person listed in the FOR FURTHER INFORMATION CONTACT section.

Issued in Washington, DC.
Lirio Liu,
Designated Federal Officer, Aviation Rulemaking Advisory Committee.

[FR Doc. 2018-12603 Filed 6-11-18; 8:45 am]

BILLING CODE 4910-13-P